DEPARTMENT OF ENERGY

Federal Energy Regulatory Commission

Combined Notice of Filings #1

Take notice that the Commission received the following electric corporate filings:

Docket Numbers: EC15-92-000.

Applicants: American Transmission Company LLC (ATC),Consolidated Water Power Company.

Description: Joint Application for Authority to Acquire Transmission Facilities Under Section 203 of the FPA of American Transmission Company LLC, et al.

Filed Date: 3/13/15.

Accession Number: 20150313-5211.

Comments Due: 5 p.m. ET 4/3/15.

Docket Numbers: EC15-93-000.

Applicants: American Transmission Company LLC (ATC).

Description: Application for Authority to Acquire Transmission Facilities Under Section 203 of the FPA of American Transmission Company LLC.

Filed Date: 3/13/15.

Accession Number: 20150313-5212.

Comments Due: 5 p.m. ET 4/3/15.

Docket Numbers: EC15-94-000.

Applicants: American Transmission Company LLC (ATC).

Description: Application for Authority to Acquire Transmission Facilities Under Section 203 of the FPA of American Transmission Company LLC.

Filed Date: 3/13/15.

Accession Number: 20150313-5213.

Comments Due: 5 p.m. ET 4/3/15.

Docket Numbers: EC15-95-000.

Applicants: American Transmission Company LLC (ATC).

Description: Application for Authority to Acquire Transmission Facilities Under Section 203 of the FPA of American Transmission Company LLC.

Filed Date: 3/13/15.

Accession Number: 20150313-5214.

Comments Due: 5 p.m. ET 4/3/15.

Docket Numbers: EC15-96-000.

Applicants: Osprey Energy Center, LLC, Duke Energy Florida, Inc.

Description: Joint Application for Approval Under Section 203 of the Federal Power Act and Request for Shortened Comment Period of Osprey Energy Center, LLC and Duke Energy Florida, Inc.

Filed Date: 3/13/15.

Accession Number: 20150313-5217.

Comments Due: 5 p.m. ET 4/3/15.

Take notice that the Commission received the following electric rate filings:

Docket Numbers: ER10-2543-003; ER14-1153-002; ER11-2159-004; ER10-2609-010; ER10-2606-010; ER10-2604-008; ER10-2602-011.

Applicants: Verso Androscoggin LLC, Verso Androscoggin Power LLC, Verso Maine Energy LLC, Luke Paper Company, New Page Energy Services, Inc., Consolidated Water Power Company, Escanaba Paper Company.

Description: Supplement to February 2, 2015 Notice of Non-Material Change in Status of the Verso MBR and NewPage MBR Entities.

Filed Date: 3/13/15.

Accession Number: 20150313-5206.

Comments Due: 5 p.m. ET 4/3/15.

Docket Numbers: ER15-1046-005.

Applicants: Kansas City Power & Light Company.

Description: Tariff Amendment per 35.17(b): KCP&L Supplemental Rate Schedule 140 Filing to be effective 12/31/9998.

Filed Date: 3/13/15.

Accession Number: 20150313-5185.

Comments Due: 5 p.m. ET 4/3/15.

Docket Numbers: ER15-1048-004.

Applicants: KCP&L Greater Missouri Operations Company.

Description: Tariff Amendment per 35.17(b): KCP&L-GMO Supplemental Rate Schedule 136 Filing to be effective 12/31/9998.

Filed Date: 3/13/15.

Accession Number: 20150313-5177.

Comments Due: 5 p.m. ET 4/3/15.

Docket Numbers: ER15-1052-001.

Applicants: Transource Missouri, LLC.

Description: Tariff Amendment per 35.17(b): TMO Facilities Sharing Agreement Concurrence Amendment to be effective 12/31/9998.

Filed Date: 3/13/15.

Accession Number: 20150313-5180.

Comments Due: 5 p.m. ET 4/3/15.

Docket Numbers: ER15-1185-000.

Applicants: Midcontinent Independent System Operator, Inc., American Transmission Systems, Incorporated.

Description: § 205(d) rate filing per 35.13(a)(2)(iii): 2015-03-06_SA 766 Amended ATC-WPSC Bills of Sale to be effective 5/6/2015.

Filed Date: 3/6/15.

Accession Number: 20150306-5392.

Comments Due: 5 p.m. ET 3/27/15.

Docket Numbers: ER15-1275-000.

Applicants: New York State Electric & Gas Corporation.

Description: Informational Filing Detailing Refunds Paid in connection with Engineering and Procurement Agreements of New York State Electric & Gas Corporation.

Filed Date: 3/12/15.

Accession Number: 20150312-5156.

Comments Due: 5 p.m. ET 4/2/15.

Docket Numbers: ER15-1279-000.

Applicants: PJM Interconnection, L.L.C., Monongahela Power Company.

Description: § 205(d) rate filing per 35.13(a)(2)(iii): Monongahela Power submits Service Agreement Nos. 4090 and 4098—HREA/Mon Power to be effective 5/12/2015.

Filed Date: 3/13/15.

Accession Number: 20150313-5181.

Comments Due: 5 p.m. ET 4/3/15.

Docket Numbers: ER15-1280-000.

Applicants: Midcontinent Independent System Operator, Inc.

Description: § 205(d) rate filing per 35.13(a)(2)(iii): 2015-03-13_SA 2696 ITC-IPL Amended E&P (J233) to be effective 3/5/2015.

Filed Date: 3/13/15.

Accession Number: 20150313-5182.

Comments Due: 5 p.m. ET 4/3/15.

Docket Numbers: ER15-1281-000.

Applicants: New York Independent System Operator, Inc.

Description: § 205(d) rate filing per 35.13(a)(2)(iii): NYISO 205 filing re: additional capacity resource interconnection service to be effective 5/12/2015.

Filed Date: 3/13/15.

Accession Number: 20150313-5184.

Comments Due: 5 p.m. ET 4/3/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 16, 2015.
Nathaniel J. Davis, Sr.,
Deputy Secretary.

[FR Doc. 2015-06553 Filed 3-20-15; 8:45 am]

BILLING CODE 6717-01-P